DEPARTMENT OF COMMERCE

Foreign-Trade Zones Board

[B-42-2018]

Foreign-Trade Zone (FTZ) 244—Riverside County, California; Authorization of Production Activity; ModusLink Corporation (Camera and Accessories Kitting), Riverside, California

On June 28, 2018, ModusLink Corporation submitted a notification of proposed production activity to the FTZ Board for its facility within FTZ 244—Site 11, in Riverside, California.

The notification was processed in accordance with the regulations of the FTZ Board (15 CFR part 400), including notice in the Federal Register inviting public comment (83 FR 31526-31527, July 6, 2018). On October 26, 2018, the applicant was notified of the FTZ Board's decision that no further review of the activity is warranted at this time. The authorization is for the foreign-status components and finished products described in the notification, subject to a restriction requiring that textile bag packs; textile chest mount harnesses; bags, microfibers, and dive filters; camera cases; men's knitted shirts; men's t-shirts; women's t-shirts; men's sweatshirts; lithium-ion storage batteries; women's sweatshirts; and, men's jackets be admitted to the zone in privileged foreign status (19 CFR 146.41), with no further review by the FTZ Board.

Dated: October 26, 2018.
Elizabeth Whiteman,
Acting Executive Secretary.

[FR Doc. 2018-23799 Filed 10-30-18; 8:45 am]

BILLING CODE 3510-DS-P